DEPARTMENT OF AGRICULTURE

Forest Service

Tehama County Resource Advisory Committee

AGENCY: Forest Service, USDA.

ACTION: Notice of meeting.

SUMMARY: The Tehama County Resource Advisory Committee (RAC) will hold its next meeting.

DATES: The meeting will be held on July 18, 2002, and will begin at 9 a.m. and end at approximately 12 p.m.

ADDRESSES: The meeting will be held at the Lincoln Street School, Conference Room A, 1135 Lincoln Street, Red Bluff, CA.

FOR FURTHER INFORMATION CONTACT: Bobbin Gaddini, Committee Coordinator, USDA, Mendocino National Forest, Grindstone Ranger District, P.O. Box 164, Elk Creek, CA 95939. (530) 968-5329; e-mail ggaddini@fs.fed.us.

SUPPLEMENTARY INFORMATION: Agenda items to be covered include: (1) Introductions, (2) Approval of Minutes, (3) Public Comment (4) Election of Officers, (5) Mendocino Priority List, (6) Lassen Priority List, (7) Shasta Trinity Priority List. (8) General Discussion. The meeting is open to the public. Public input opportunity will be provided and individual will have the opportunity to address the Committee at that time.

Dated: June 18, 2002.
Michael Brenner,
Acting Forest Supervisor.

[FR Doc. 02-15837 Filed 6-21-02; 8:45 am]

BILLING CODE 3410-11-M